DEPARTMENT OF ENERGY

Federal Energy Regulatory Commission

Project No. 9690-115; Eagle Creek Hydro Power, LLC, Eagle Creek Water Resources, LLC, Eagle Creek Land Resources, LLC

Notice of Application Tendered for Filing With the Commission and Establishing Procedural Schedule for Licensing and Deadline for Submission of Final Amendments

Take notice that the following hydroelectric application has been filed with the Commission and is available for public inspection.

a. Type of Application: New Major License.

b. Project No.: 9690-115.

c. Date Filed: March 31, 2020.

d. Applicant: Eagle Creek Hydro Power, LLC, Eagle Creek Water Resources, LLC, and Eagle Creek Land Resources, LLC (collectively referred to as Eagle Creek).

e. Name of Project: Rio Hydroelectric Project (Rio Project).

f. Location: The existing project is located on the Mongaup River in Sullivan and Orange Counties, New York. The project does not occupy federal lands.

g. Filed Pursuant to: Federal Power Act, 16 U.S.C. 791(a)-825(r).

h. Applicant Contact: Mr. Robert Gates, Senior Vice President—Regulatory, Eagle Creek Renewable Energy, LLC., 116 N State Street, P.O. Box 167, Neshkoro, WI 54960-0167; (973) 998-8400 or bob.gates@eaglecreekre.com.

i. FERC Contact: Nicholas Ettema at (312) 596-4447 or email at nicholas.ettema@ferc.gov.

j. This application is not ready for environmental analysis at this time.

k. Project Description: The Rio Project consists of: (1) A reservoir with a gross storage capacity of 14,536 acre-feet and a surface area of 444 acres; (2) a 264-foot-long, gravity-type concrete spillway with a maximum height of 101 feet at a crest elevation of 810 feet National Geodetic Vertical Datum of 1929 (NGVD29); (3) a 22-foot-long, concrete gravity intake structure; (4) a 99-foot-long, concrete gravity non-overflow section; (5) a 540-foot-long, earth-fill embankment; (6) a 102-foot-long, concrete gravity non-overflow section; (7) a 460-foot-long, earth-fill embankment with a 20-foot-wide crest at an elevation of 825 feet NGVD29; (8) a 1.5-mile-long bypassed reach; (9) a 7,000-foot-long, 11-foot-diameter steel penstock connected to a 40-foot-diameter by 65-foot-high steel surge tank; (10) a 10-foot-diameter, 280-foot-long underground steel penstock from the surge tank branching into two 7-foot-diameter, 100-foot-long steel penstocks leading to the main and minimum flow powerhouses; (11) a 22-foot-square reinforced-concrete gatehouse; (12) a 15-foot-wide by 46-foot-high trashrack with 2.9-inch bar clear spacing; (13) a 82-foot-long by 30-feet-wide by 33-foot-high brick and steel main powerhouse containing two 5 megawatt (MW) vertical-axis turbines; (14) a 30-foot-long by 27-foot-wide by 24-foot-high reinforced concrete minimum flow powerhouse containing one 0.8 MW horizontal-axis turbine; (15) a 45-foot-wide by 225-foot-long tailrace with a 65-foot-long concrete weir from the main powerhouse; (16) a 10-foot-wide by 38-foot-long tailrace from the minimum flow powerhouse; and (17) a 760-foot-long, 4-kilovolt aboveground transmission line. The project generates an average of 24,859 megawatt-hours annually. The megawatt-hours represents Units 1 through 3 from 2014-2019, including an extended outage of Unit 3 in 2015. Eagle Creek proposes to continue to operate the project in a peaking mode.

l. A copy of the application is available for review on the Commission's website at http://www.ferc.gov using the “eLibrary” link. Enter the docket number excluding the last three digits in the docket number field to access the document. At this time, the Commission has suspended access to the Commission's Public Reference Room due to the Proclamation on Declaring a National Emergency Concerning the Novel Coronavirus Disease (COVID-19) Outbreak, issued by the President on March 13, 2020. For assistance, please contact FERC Online Support at FERCOnlineSupport@ferc.gov, (866) 208-3676 (toll free), or (202) 502-8659 (TTY).

m. You may also register online at http://www.ferc.gov/docs-filing/esubscription.asp to be notified via email of new filings and issuances related to this or other pending projects. For assistance, contact FERC Online Support.

n. Procedural Schedule: The application will be processed according to the following preliminary schedule. Revisions to the schedule may be made as appropriate.

Milestone | Target date
Notice of Acceptance/Notice of Ready for Environmental Analysis | July 2020.
Filing of recommendations, preliminary terms and conditions, and fishway prescriptions | November 2020.
Commission issues Environmental Assessment (EA) | May 2021.
Comments on EA | June 2021.
Modified terms and conditions | August 2021.

o. Final amendments to the application must be filed with the Commission no later than 30 days from the issuance date of the notice of ready for environmental analysis.

Dated: April 8, 2020.
Kimberly D. Bose,
Secretary.

[FR Doc. 2020-07811 Filed 4-13-20; 8:45 am]

BILLING CODE 6717-01-P